ENVIRONMENTAL PROTECTION AGENCY

[Docket# EPA-RO4-SFUND-2006-0865; FRL-8243-4]

Constitution Road Drum Site; Atlanta, Dekalb County, GA; Notice of Duplicated Settlement

AGENCY: Environmental Protection Agency (EPA).

ACTION: Notice of Duplicated Settlement—FRL-8237-5.

SUMMARY: On November 1, 2006 a duplication of the Constitution Road Drum Site settlement was published in the Federal Register under Docket # EPA-R04-SFUND-2006-0865' FRL-8237-5. EPA will not be accepting comments on this document. The correct listing is under EPA-R04-SFUND-2006-0865; FRL-8237-1. EPA will be accepting comments under the correct listing until December 1, 2006.

FOR FURTHER INFORMATION CONTACT: Paula V. Batchelor at 404/562-8887.

Dated: November 2, 2006.
Greg Armstrong,
Acting Chief, Superfund Enforcement & Information Management Branch, Superfund Division.

[FR Doc. E6-19644 Filed 11-20-06; 8:45 am]

BILLING CODE 6560-50-P